DEPARTMENT OF ENERGY

Federal Energy Regulatory Commission

[Docket No. CP03-357-000]

Eastern Shore Natural Gas Company; Notice of Application

October 2, 2003.

Take notice that on September 26, 2003, Eastern Shore Natural Gas Company (Eastern Shore), 417 Bank Lane, Dover, Delaware 19904, filed an application with the Commission in Docket No. CP03-357-000 under Section 7 of the Natural Gas Act, as amended, seeking authority to construct and operate a metering and regulating station in Seaford, Sussex County, Delaware, to serve an existing customer, all as more fully stated in the application.

Any questions regarding the application should be directed to Elaine B. Bittner, Director of Eastern Shore Natural Gas Company, Eastern Natural Gas Company, 417 Bank Lane, Dover Delaware 19904, or at (302) 734-6710.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: October 23, 2003.

Magalie R. Salas,
Secretary.

[FR Doc. E3-00034 Filed 10-8-03; 8:45 am]

BILLING CODE 6717-01-P